ENVIRONMENTAL PROTECTION AGENCY

40 CFR Part 52

[EPA-R01-OAR-2025-0240; FRL-12861-02-R1]

Air Plan Approval; Connecticut; 2014 and 2017 Periodic Emissions Inventory for 2008 8-Hour Ozone NAAQS

AGENCY: Environmental Protection Agency (EPA).

ACTION: Final rule.

SUMMARY: The Environmental Protection Agency (EPA) is approving State Implementation Plan (SIP) revisions submitted by the State of Connecticut. These SIP revisions relate to the 2008 8-Hour ozone National Ambient Air Quality Standards (NAAQS). The SIP revisions consist of the following: 2014 and 2017 calendar year periodic emissions inventories. This action is being taken under the Clean Air Act (CAA).

DATES: This rule is effective on December 18, 2025.

ADDRESSES: EPA has established a docket for this action under Docket Identification No. EPA-R01-OAR-2025-0240. All documents in the docket are listed on the https://www.regulations.gov website. Although listed in the index, some information is not publicly available, i.e., CBI or other information whose disclosure is restricted by statute. Certain other material, such as copyrighted material, is not placed on the internet and will be publicly available only in hard copy form. Publicly available docket materials are available at https://www.regulations.gov or at the U.S. Environmental Protection Agency, EPA Region 1 Regional Office, Air and Radiation Division, 5 Post Office Square—Suite 100, Boston, MA. EPA requests that if at all possible, you contact the contact listed in the FOR FURTHER INFORMATION CONTACT section to schedule your inspection.

FOR FURTHER INFORMATION CONTACT: Patrick Lillis, Air and Radiation Division (Mail Code 5-MI), U.S. Environmental Protection Agency—Region 1, 5 Post Office Square, Suite 100, Boston, Massachusetts 02109-3912; tel. (617) 918-1067, or by email at lillis.patrick@epa.gov.

SUPPLEMENTARY INFORMATION: Throughout this document whenever “we,” “us,” or “our” is used, we mean EPA.

Table of Contents

I. Background

II. Response to Comments

III. Final Action

IV. Statutory and Executive Order Reviews

I. Background

The Notice of Proposed Rulemaking (NPRM) proposed approval of SIP revisions submitted by the State of Connecticut that relate to the 2008 Ozone National Ambient Air Quality Standards. The SIP revisions included the 2014 and 2017 periodic emissions inventories for the Greater Connecticut and the Connecticut portion of the New York-Northern New Jersey-Long Island, NY-NJ-CT ozone nonattainment areas. We proposed to find that the emissions inventories were prepared in accordance with the requirements of CAA sections 172(c)(3) and 182(a)(3)(A). The EPA is now finalizing the proposed approval of Connecticut's 2014 and 2017 periodic emissions inventories for the 2008 Ozone NAAQS.

II. Response to Comments

EPA received one comment during the comment period, which is available in the docket of this rulemaking action. This comment recognizes that the proposal was “limited to evaluating emissions inventory submissions for ozone precursors,” but urges EPA to “recognize the broader importance of integrating carbon dioxide (CO2) and other greenhouse gas (GHG) emissions” in future periodic emissions inventories.

The comment does not assert that the CAA requires EPA to disapprove a periodic emissions inventory submittal that does not include CO2 or GHGs. Rather, the comment recognizes that CO2 and GHGs are “not directly regulated under the 2008 ozone standard” but urges EPA nonetheless to “encourage states to incorporate GHG awareness into future inventory work and SIP development frameworks.”

EPA reviews a State's submittal for compliance with CAA requirements, and EPA is required to approve a SIP submission that complies with those requirements. CAA § 110(k)(3); 40 CFR 52.02(a). As noted, this EPA action concerns emissions inventories for the 2008 ozone NAAQS submitted in accordance with CAA sections 172(c)(3) and 182(a)(3)(A). Section 172(c)(3) of the CAA requires a state to include “the relevant pollutant or pollutants” in emissions inventories for SIPs. EPA's 2008 ozone implementation rule indicates the relevant pollutants to be included in periodic emission inventories for the 2008 ozone NAAQS are ozone season day emissions of the ozone precursors volatile organic compounds and (VOC) and nitrogen oxides (NOX).¹ Therefore, CT DEEP's submittal of 2014 and 2017 periodic emissions inventories without reference to CO2 or GHGs meets the applicable pollutant and ozone precursor reporting requirements for periodic emission inventories of the CAA and EPA's 2008 ozone implementation rule.² Furthermore, EPA regulations require a base year inventory to establish a reference point to track VOC and NOX emissions,³ Thus, subsequent periodic emissions inventories also center on VOC and NOX in order to track progress toward meeting the ozone NAAQS by comparing current VOC and NOX emissions data to the base year inventory. Accordingly, EPA is finalizing the action as proposed.

¹ 40 CFR 51.1115(a)-(d); 40 CFR 51.15(a)(1)-(2); see also Emissions Inventory Guidance for Implementation of Ozone and Particulate Matter National Ambient Air Quality Standards (NAAQS) and Regional Haze Regulations, May 2017, Section 4.2 (“For the 8-hour ozone NAAQS, the pollutants to be inventoried are VOC and NOX.”), available at https://www.epa.gov/sites/default/files/2017-07/documents/ei_guidance_may_2017_final_rev.pdf.

² See also 80 FR 12264.

³ 40 CFR 51.1100(bb) (defining the base year inventory as including VOC and NOX without any mention of CO2 or GHGs), 51.1115(a).

III. Final Action

For the reasons described in our July 7, 2025, notice of proposed rulemaking,⁴ EPA is taking final action to approve Connecticut's 2014 and 2017 periodic emissions inventories for the 2008 ozone NAAQS as a revision to the Connecticut SIP.

⁴ 90 FR 29821.

IV. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by January 20, 2026. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Nitrogen dioxide, Ozone, Reporting and recordkeeping requirements, Volatile organic compounds.

Authority: 42 U.S.C. 7401 et seq.

Dated: October 8, 2025.
Mark Sanborn,
Regional Administrator, EPA Region 1.

For the reasons stated in the preamble, the Environmental Protection Agency amends part 52 of chapter I, title 40 of the Code of Federal Regulations to read as follows:

PART 52—APPROVAL AND PROMULGATION OF IMPLEMENTATION PLANS

1. The authority citation for part 52 continues to read as follows:

Authority: 42 U.S.C. 7401 et seq.

Subpart H—Connecticut

2. Section 52.370 is amended by adding paragraph (c)(139) to read as follows:

§ 52.370 Identification of plan

* * * * *

(c) * * *

(139) Revisions to the State Implementation Plan submitted by the Connecticut Department of Energy and Environmental Protection on May 3, 2024.

(i) [Reserved]

(ii) Additional materials.

(A) Letter from the Connecticut Department of Energy and Environmental Protection, dated May 3, 2024, submitting revision to the Connecticut State Implementation Plan.

(B) [Reserved]

3. Section 52.384 is amended by adding paragraph (g) to read as follows:

§ 52.384 Emission Inventories.

* * * * *

(g) On May 3, 2024, the State of Connecticut submitted periodic emissions inventories as revisions to the State's SIP. The periodic emissions inventories represent emissions for calendar year 2014 and 2017 from the Connecticut portion of the NY-NJ-CT 8-hour ozone nonattainment area (currently classified as severe nonattainment for the 2008 ozone standard) and the Greater Connecticut 8-hour ozone nonattainment area (currently classified as moderate nonattainment for the 2008 ozone standard, but since having received a clean data determination and a determination of attainment by the attainment date). The 2014 and 2017 periodic emission inventory requirement of section 182(a)(3)(A) of the Clean Air Act, as amended in 1990, has been satisfied for these areas. The inventories consist of emission estimates of volatile organic compounds and nitrogen oxides, and cover point, area, non-road mobile, on-road mobile and biogenic sources. The inventories were submitted as revisions to the SIP in partial fulfillment of obligations for nonattainment areas under EPA's 2008 8-hour ozone standard.

[FR Doc. 2025-20142 Filed 11-17-25; 8:45 am]

BILLING CODE 6560-50-P